NUCLEAR REGULATORY COMMISSION

[IA-06-046]

In the Matter of Mr. Nicholas A. Chaimov; Order Prohibiting Involvement in NRC-Licensed Activities (Effective Immediately)

I

Mr. Nicholas A. Chaimov was employed as a Senior Reactor Operator at the Reed College Reactor (the facility). Reed College (the licensee) is the holder of License No. R-112 issued by the U.S. Nuclear Regulatory Commission (NRC or Commission) pursuant to Part 50 of Title 10 of the Code of Federal Regulations (10 CFR) on July 2, 1968, for the facility. The license authorizes the operation of the facility in accordance with the conditions specified therein. The facility is located on the licensee's site in Portland, Oregon.

II

On May 31, 2005, an inspection of licensed activities was initiated at the licensee's facility in response to allegations received at the NRC Headquarters on May 19, 2005, that Mr. Nicholas A. Chaimov had engaged in deliberate misconduct. Specifically, it was alleged that Mr. Nicholas A. Chaimov had deliberately removed a jumper on the control rod drive circuit of the reactor without the licensee's authorization or approval. Removal of that jumper prevented the shim rod from being withdrawn, so that the reactor could not be taken to the critical startup condition. That jumper had been properly installed, in accordance with the Reed College Reactor Safety Analysis Report (SAR), until Mr. Nicholas A. Chaimov deliberately removed it. The allegation was unresolved by the inspection and was subsequently referred to the NRC Office of Investigations (OI). OI completed its investigation and substantiated that on May 10, 2005, Mr. Nicholas A. Chaimov deliberately removed a jumper on the control rod drive circuit of the reactor without the licensee's authorization or approval. Although this unauthorized facility modification did not adversely impact reactor safety nor was the health and safety of the public affected because the facility's startup checklist detected a malfunction in the rod control system and the problem was corrected by the licensee before operation was allowed, conduct of this nature by an individual raises serious doubt as to whether the individual can be relied upon to comply with NRC requirements.

III

Based on the information obtained during the OI investigation, the NRC concludes that Mr. Nicholas A. Chaimov, an employee of the licensee, made changes to the facility so that it was not as described in the SAR. These changes caused the licensee to be in violation of 10 CFR 50.59, “Changes, test, and experiments.” It was further found that Mr. Chaimov's actions were willful such that he had engaged in deliberate misconduct in violation of 10 CFR 50.5, “Deliberate misconduct.” The NRC must be able to rely on the licensee and its employees to comply with NRC requirements in all material respects. Mr. Nicholas A. Chaimov's action has raised serious doubt as to whether he can be relied upon to comply with NRC requirements.

Consequently, I lack the requisite reasonable assurance that licensed activities can be conducted in compliance with the Commission's requirements and that the health and safety of the public will be protected if Mr. Nicholas A. Chaimov is permitted at this time to be involved in NRC-licensed activities. Therefore, the public's health, safety, and interest require that Mr. Nicholas A. Chaimov be prohibited from any involvement in NRC-licensed activities for a period of three years from the date of this Order. Furthermore, pursuant to 10 CFR 2.202, “Orders,” the NRC finds that the significance of Mr. Nicholas A. Chaimov's conduct described above is such that the public's health, safety, and interest require that this Order be immediately effective.

IV

Accordingly, pursuant to Sections 104c, 161b, 161i, 161o, 182 and 186 of the Atomic Energy Act of 1954, as amended, and the Commission's regulations in 10 CFR 2.202, 10 CFR 50.5, and 10 CFR 150.20, it is hereby ordered, effective immediately, that:

1. Mr. Nicholas A. Chaimov is prohibited for three years from the date of this Order from engaging in NRC-licensed activities. NRC-licensed activities are those activities that are conducted pursuant to a specific or general license issued by the NRC, including, but not limited to, those activities of Agreement State licensees conducted pursuant to the authority granted by 10 CFR 150.20.

2. If Mr. Nicholas A. Chaimov is currently involved with another licensee in NRC-licensed activities, he must immediately cease those activities, and inform the NRC of the name, address, and telephone number of that licensee, and provide a copy of this Order to that licensee.

The Director, Office of Enforcement, may, in writing, relax or rescind any of the above conditions upon demonstration by Mr. Nicholas A. Chaimov of good cause.

V

In accordance with 10 CFR 2.202, Mr. Nicholas A. Chaimov must, and any other person adversely affected by this Order may, submit an answer to this Order, and may request a hearing on this Order, within 20 days of the date of this Order. Where good cause is shown, consideration will be given to extending the time to request a hearing. A request for extension of time must be made in writing to the Director, Office of Enforcement, U.S. Nuclear Regulatory Commission, Washington, DC 20555, and include a statement of good cause for the extension. The answer may consent to this Order. Unless the answer consents to this Order, the answer shall, in writing and under oath or affirmation, specifically admit or deny each allegation or charge made in this Order and shall set forth the matters of fact and law on which Mr. Nicholas A. Chaimov or other person adversely affected relies and the reasons as to why the Order should not have been issued. Any answer or request for a hearing shall be submitted to the Secretary, U.S. Nuclear Regulatory Commission, Attn: Rulemakings and Adjudications Staff, Washington, DC 20555. Copies also shall be sent to the Director, Office of Enforcement, U.S. Nuclear Regulatory Commission, Washington, DC 20555, the Assistant General Counsel for Materials Litigation and Enforcement at the same address, and Mr. Nicholas A. Chaimov, if the answer or hearing request is by a person other than Mr. Nicholas A. Chaimov. Because of continuing disruptions in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than the licensee requests a hearing, that person shall set forth with particularity the manner in which his interest is adversely affected by this Order and shall address the criteria set forth in 10 CFR 2.309(d).

If a hearing is requested by Mr. Nicholas A. Chaimov or a person whose interest is adversely affected, the Commission will issue an Order designating the time and place of any hearing. If a hearing is held, the issue to be considered at such hearing shall be whether this Order should be sustained.

Pursuant to 10 CFR 2.202(c)(2)(i), Mr. Nicholas A. Chaimov may, in addition to demanding a hearing, at the time the answer is filed or sooner, move the Presiding Officer to set aside the immediate effectiveness of the Order on the ground that the Order, including the need for immediate effectiveness, is not based on adequate evidence but on mere suspicion, unfounded allegations, or error.

In the absence of any request for hearing, or written approval of an extension of time in which to request a hearing, the provisions specified in Section IV above shall be final 20 days from the date of this Order without further order or proceedings. If an extension of time for requesting a hearing has been approved, the provisions specified in Section IV shall be final when the extension expires if a hearing request has not been received. An answer or a request for hearing shall not stay the immediate effectiveness of this order.

Dated this 12th day of September 2006.
For the Nuclear Regulatory Commission.
Martin J. Virgilio,
Deputy Executive Director for Materials, Research, State, and Compliance Programs, Office of the Executive Director for Operations.

[FR Doc. E6-15309 Filed 9-14-06; 8:45 am]

BILLING CODE 7590-01-P